NUCLEAR REGULATORY COMMISSION

Advisory Committee on Nuclear Waste; Revised

The 166th Advisory Committee on Nuclear Waste (ACNW) meeting scheduled for December 13-15, 2005, Room T-2B3, Two White Flint North, 11545 Rockville Pike, Rockville, Maryland has been revised as noted below. This notice was previously published on Thursday, December 1, 2005 (70 FR 72127).

Tuesday, December 13, 2005

8:30 a.m.-8:45 a.m.: Opening Statement (Open)—The ACNW Chairman will make opening remarks regarding the conduct of today's sessions.

8:45 a.m.-10:15 a.m.: U.S. Nuclear Regulatory Commission (NRC's) Plans for the Implementation of a Dose Standard After 10,000 Years (Open)—NRC is proposing to amend its regulations at 10 CFR Part 63 that govern the disposal of high-level radioactive wastes in a proposed geologic repository at Yucca Mountain. The proposed rule would implement EPA's proposed standards for doses that could occur after 10,000 years but within the period of geologic stability. The Committee will continue its discussions with representatives from NRC's Office of Nuclear Materials Safety and Safeguards on those proposed revisions. The NRC staff briefing will include the topics of radionuclide inventory, effects of climate change, and dosimetry.

10:30 a.m.-11:30 a.m.: Reasonableness of NRC Infiltration Assumption in the Proposed Part 63 (Open)—NRC's proposed rule change at Part 63 specifies a value to be used to represent climate change after 10,000 years, as called for by EPA. The Committee will hear presentations from and hold discussions with knowledgeable subject matter experts on the reasonableness of NRC's proposed infiltration assumption.

1 p.m.-4 p.m.: White Paper on Low-Level Radioactive Waste (Open)—The Committee will discuss a proposed white paper on low-level radioactive waste (LLW). NRC staff and stakeholders will provide perspectives on the subject.

4:15 p.m.-5:30 p.m.: Preparation of ACNW Reports/Letters (Open)—The Committee will discuss proposed ACNW reports on matters considered during this and/or previous meetings.

Wednesday, December 14, 2005

8:30 a.m.-8:45 a.m.: Opening Statement (Open)—The ACNW Chairman will make opening remarks regarding the conduct of today's sessions.

8:45 a.m.-10:15 a.m.: Combined Office of Nuclear Materials Safety and Safeguards (NMSS) and Division Directors Briefing (Open)—The NMSS Office and Division Directors will brief the Committee on recent activities of interest within their respective programs.

10:30 a.m.-11:30 a.m.: Generalized Composite Modeling (Open)—The Committee will hear presentations by and hold discussions with representatives of the United States Geological Survey and the NRC Office of Nuclear Regulatory Research regarding demonstrations of the generalized composite approach to the modeling of reactive transport phenomena.

1 p.m.-3 p.m.: Preparation for Commission Briefing (Open)—The Committee will review the final presentations in preparation for the Commission briefing on January 11, 2006.

3:15 p.m.-5:30 p.m.: Preparation of ACNW Reports/Letters, Continued (Open)

Thursday, December 15, 2005

10 a.m.-10:15 a.m.: Opening Remarks by the ACNW Chairman (Open)—The ACNW Chairman will make opening remarks regarding the conduct of today's sessions.

10:15 a.m.-11:45 a.m.: Discussion of ACNW Reports/Letters (Open)—The Committee will discuss prepared draft letters and determine whether letters would be written on topics discussed during the meeting.

11:45 a.m.-12:45 p.m.: Miscellaneous (Open)—The Committee will discuss matters related to the conduct of ACNW activities, and specific issues that were not completed during previous meetings, as time and availability of information permit. Discussions may include future Committee Meetings.

Further information regarding this meeting can be obtained by contacting Ms. Sharon A. Steele, ACNW (Telephone: 301-415-6805) between 8 a.m. and 4 p.m. ET.

Dated: December 5, 2005.
Andrew L. Bates,
Advisory Committee Management Officer.

[FR Doc. E5-7117 Filed 12-8-05; 8:45 am]

BILLING CODE 7590-01-P